DEPARTMENT OF ENERGY

Federal Energy Regulatory Commission

Combined Notice of Filings

Take notice that the Commission has received the following Natural Gas Pipeline Rate and Refund Report filings:

Docket Numbers: RP21-505-000.

Applicants: Florida Gas Transmission Company, LLC.

Description: Florida Gas Transmission Company, LLC submits tariff filing per 154.204: Curtailment Priority Filing to be effective 3/25/2021 under RP21-505.

Filed Date: 02/22/2021.

Accession Number: 20210222-5067.

Comment Date: 5 p.m. ET 3/8/21.

Docket Numbers: RP21-506-000.

Applicants: Viking Gas Transmission Company.

Description: Viking Gas Transmission Company submits tariff filing per 154.204: Negotiated Rate PAL Agreement—World Fuel VR1048 Amend 2 Extension to be effective 2/22/2021 under RP21-506.

Filed Date: 02/22/2021.

Accession Number: 20210222-5140.

Comment Date: 5 p.m. ET 3/8/21.

Docket Numbers: RP21-507-000.

Applicants: El Paso Natural Gas Company, L.L.C.

Description: El Paso Natural Gas Company, L.L.C. submits tariff filing per 154.601: Negotiated Rate Agreement Update (Pioneer Apr-Jun 2021) to be effective 4/1/2021 under RP21-507.

Filed Date: 02/22/2021.

Accession Number: 20210222-5163.

Comment Date: 5 p.m. ET 3/8/21.

Docket Numbers: RP21-508-000.

Applicants: Cimarron River Pipeline, LLC.

Description: Cimarron River Pipeline, LLC submits tariff filing per 154.403(d)(2): Fuel Tracker 2021—Summer Season Rates to be effective 4/1/2021 under RP21-508.

Filed Date: 02/22/2021.

Accession Number: 20210222-5169.

Comment Date: 5 p.m. ET 3/8/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 23, 2021.
Kimberly D. Bose,
Secretary.

[FR Doc. 2021-04144 Filed 2-26-21; 8:45 am]

BILLING CODE 6717-01-P